TREASURY DEPARTMENT

Office of Foreign Assets Control

Special Designation and Blocking Memorandum

Pursuant to Executive Order 13224 of September 23, 2001, “Blocking Property and Prohibiting Transactions With Persons Who Commit, Threaten to Commit, or Support Terrorism,” as amended by the Executive Order of September 10, 2019, “Modernizing Sanctions to Combat Terrorism,” (the Order), section 203 of the International Emergency Economic Powers Act, 50 U.S.C. § 1702, section 5 of the United Nations Participation Act of 1945, 22 U.S.C. § 287c, section 301 of title 3, United States Code, and section 594.802 of the Global Terrorism Sanctions Regulations, 31 CFR part 594 (the Regulations), I hereby determine, in consultation with the Secretary of State, the Attorney General, and the Secretary of Homeland Security, that there is reason to believe the persons identified below and in the attached evidentiary memoranda (SDGT-13629, SDGT-13633, SDGT-16063, SDGT-16220, SDGT-13932, SDGT-16070, SDGT-16542, SDGT-16148, SDGT-12024), meet one or more criteria for designation set forth in section 1 of the Order. Accordingly, except to the extent otherwise provided by law or unless licensed or otherwise authorized by the Office of Foreign Assets Control (OFAC), (1) all real, personal, and any other property and interests in property of the persons identified below that are in the United States, that hereafter come within the United States, or that are or hereafter come within the possession or control of U.S. persons are blocked and may not be transferred, paid, exported, withdrawn or otherwise dealt in, and (2) any transaction or dealing by a U.S. person or within the United States in property or interests in property of the persons identified below is prohibited. Therefore, the persons identified below will now appear on OFAC's list of Specially Designated Nationals and Blocked Persons.

Individuals

1. IBRAHIM, Mohamed Ahmed Elsayed Ahmed, Brazil; DOB 05 Apr 1977; POB Gharbeya, Egypt; citizen Egypt; Gender Male; Passport A09935181 (Egypt); Turkish Identification Number 99148469954 (Turkey) (individual) [SDGT] (Linked To: AL QA'IDA).

2. IZADI, Muhammad Sa'id (a.k.a. IZADI, Mohammad Sa'id; a.k.a. IZADI, Ramazan; a.k.a. IZADI, Saeed; a.k.a. “ABEDINI, Sa'id”), Iran; Beirut, Lebanon; DOB 1964; Gender Male; Passport 9002446 (Iran) (individual) [SDGT] [IRGC] [IFSR] (Linked To: ISLAMIC REVOLUTIONARY GUARD CORPS (IRGC)-QODS FORCE; Linked To: HAMAS).

3. JABARIN, Zaher (a.k.a. JABARIN, Zahar; a.k.a. JABARIN, Zaher Ali Mousa; a.k.a. JABARIN, Zahir; a.k.a. JABBAREEN, Zahir Ali Mousa; a.k.a. JIBRIL, Zaher Ali Mousa), Iran; Turkey; DOB 11 Sep 1968; alt. DOB 09 Nov 1968; POB Salfit, West Bank, Palestinian; alt. POB Nablus, West Bank, Palestinian; Gender Male; Passport 2987250 (Palestinian); alt. Passport 26899900360 (Qatar); Identification Number 904121555 (Palestinian) (individual) [SDGT] (Linked To: HAMAS).

4. AL-RAWI, Marwan Mahdi Salah (a.k.a. ALRAWI, Marwan; a.k.a. AL-RAWI, Marwan Mahdi), Istanbul, Turkey; DOB 1981; POB Ramadi, Iraq; nationality Iraq; Email Address marwanalrawi2@gmail.com; Gender Male (individual) [SDGT] (Linked To: REDIN EXCHANGE).

5. TASH, Ismael (a.k.a. MOSLEH, Ismael Salman; a.k.a. TASH, Isma'il), Istanbul, Turkey; DOB 1978; POB Iraq; nationality Iraq; Email Address ismael.salman@icloud.com; alt. Email Address anasiraga9@gmail.com; alt. Email Address anasraq1000@mail.ru; Gender Male (individual) [SDGT] (Linked To: REDIN EXCHANGE).

6. AMEEN, Mohamad (a.k.a. “Amyne Didi”), Maldives; DOB 22 May 1984; nationality Maldives; Gender Male; National ID No. A114103 (Maldives) (individual) [SDGT] (Linked To: ISIL KHORASAN).

7. AHMAD, Muhammad Ali Sayid (a.k.a. SAEED, Mohammad Ali; a.k.a. “Abu Turab al-Canadi”), As Susah, Syria; DOB 07 Oct 1990; POB Faisalabad, Punjab Province, Pakistan; nationality Canada; Gender Male (individual) [SDGT].

8. SALVIN, Almaida Marani, Zamboanga City, Philippines; DOB 21 Jun 1989; POB Philippines; nationality Philippines; Gender Female (individual) [SDGT] (Linked To: ISIS-PHILIPPINES).

9. AL-HEBO, Muhamad Ali (a.k.a. AL-HABU, Muhammad; a.k.a. AL-HABU, Muhammad Abd-al-Karim; a.k.a. ALHOBO, Mohamad Abdulkarim; a.k.a. HABO, Muhammed; a.k.a. HABU, Muhammad; a.k.a. HEBBO, Mohammed), Hurriyet Caddesi, Sahinbey, Gaziantep, Turkey; Syria; Lebanon; DOB 01 Oct 1980; alt. DOB 15 Mar 1983; alt. DOB 01 Jan 1980; POB Syria; nationality Syria; Gender Male; Passport 00814L001424 (Syria); National ID No. 2020409266 (Syria); alt. National ID No. 2020316097 (Syria); alt. National ID No. 10716775 (Syria) (individual) [SDGT] (Linked To: AL-HEBO JEWELRY COMPANY).

Entities

1. AL HARAM FOREIGN EXCHANGE CO. LTD (a.k.a. AL HARAM COMMERCIAL COMPANY; a.k.a. AL HARAM TRANSFER CO.; a.k.a. AL-HARAM COMPANY FOR MONEY TRANSFER; a.k.a. AL-HARAM EXCHANGE COMPANY; a.k.a. ALHARAM FOR EXCHANGE LTD; a.k.a. AL-HARM TRADING COMPANY; a.k.a. ARABISC HARAM; a.k.a. HARAM TRADING COMPANY; a.k.a. SHARIKAT AL-HARAM LIL-HIWALAT AL-MALIYYAH; a.k.a. TRADING AL-HARM COMPANY), Istanbul, Turkey; Mersin, Turkey; Gaziantep, Turkey; Antakya, Turkey; Reyhanli, Turkey; Iskenderun, Turkey; Belen, Turkey; Surmez, Turkey; Kirikhan, Turkey; Bursa, Turkey; Islahiye, Turkey; Alanya, Turkey; Urfa, Turkey; Antalya, Turkey; Narlica, Turkey; Ankara, Turkey; Izmir, Turkey; Konya, Turkey; Kayseri, Turkey; Turkey; Lebanon; Jordan; Sudan; Palestinian; website www.arabisc-haram.com [SDGT] (Linked To: ISLAMIC STATE OF IRAQ AND THE LEVANT).

2. SAKSOUK COMPANY FOR EXCHANGE AND MONEY TRANSFER (a.k.a. AL-SAKSUK COMPANY; a.k.a. SAKSOUK COMPANY FOR MONETARY TRANSFERS ANTIOCH; a.k.a. SAKSOUK EXCHANGE; a.k.a. SAKSOUK EXCHANGE AND MONEY TRANSFER COMPANY; a.k.a. SAKSOUK EXCHANGE COMPANY; a.k.a. SAKSOUK FINANCIAL EXCHANGE; a.k.a. SAKSUK EXCHANGE AND MONEY TRANSFER COMPANY; a.k.a. SAKSUK MONEY EXCHANGE; a.k.a. SOKOK MONEY TRANSFER COMPANY; a.k.a. THE SAKSUK COMPANY FOR EXCHANGE AND FINANCIAL TRANSFERS), Turkey [SDGT] (Linked To: ISLAMIC STATE OF IRAQ AND THE LEVANT).

3. REDIN EXCHANGE (a.k.a. RADIN MONEY EXCHANGE; a.k.a. RAYDAYIN COMPANY; a.k.a. RAYDAYIN TURKEY; a.k.a. REDIN COMPANY; a.k.a. REDIN CONSULTING AND FOREIGN TRADE LIMITED COMPANY; a.k.a. REDIN CURRENCY EXCHANGE; a.k.a. REDIN DIS TICARET LTD. STI; a.k.a. REDIN GENERAL TRADE AND CARGO; a.k.a. REDIN MONEY EXCHANGE; a.k.a. RIDEN MONEY EXCHANGE; a.k.a. RIDIN MONEY EXCHANGE), Balabanaga Mahallesi, Ordu Cd. No: 12, Kat:2, Fatih, Istanbul 34134, Turkey; Molla Gurani Mahallesi, Turgut Ozal Millet Cd. No: 38/34, Fatih, Istanbul 34093, Turkey; Incili Pinar Mahallesi, Nisantasi Sk. No: 13, Cazibe Is Merkezi, Kat: 8D:801, Sehitkamil, Gaziantep 27090, Turkey; No: 12-2 Laleli, Balabanaga Mahallesi, Ordu Caddesi, Fatih, Istanbul, Turkey; Email Address redin.antep@gmail.com; alt. Email Address redin.ist@gmail.com; Identification Number 3010560025 (Turkey); Registration Number 926549 (Turkey) [SDGT] (Linked To: HAMAS).

4. SMART ITHALAT IHRACAT DIS TICARET LIMITED SIRKETI (a.k.a. SMART IMPORT EXPORT FOREIGN TRADE LIMITED COMPANY), Istanbul, Turkey; Registration Number 85600-5 (Turkey) [SDGT] (Linked To: TASH, Ismael).

5. AL-HEBO JEWELRY COMPANY (a.k.a. AL-HABU HAWALA; a.k.a. AL-HABU JEWELRY; a.k.a. AL-HABU JEWELRY AND MONEY EXCHANGE; a.k.a. AL-HABU MONEY EXCHANGE; a.k.a. “AL-HEBO”), Gaziantep, Turkey; Raqqah, Syria; Tall Abyad Street, Raqqah, Syria; Sanliurfa, Turkey [SDGT] (Linked To: ISLAMIC STATE OF IRAQ AND THE LEVANT).

6. AL-KHALIDI EXCHANGE (a.k.a. AL KHALDI COMPANY LLC; a.k.a. AL KHALDI GOLD AND EXCHANGE COMPANY; a.k.a. ALKHALEDI JEWELRY COMPANY; a.k.a. AL-KHALIDI COMPANY; a.k.a. AL-KHALIDI JEWELRY SHOP; a.k.a. AL-KHALIDI MONEY EXCHANGE; a.k.a. AL-KHALIDI MONEY TRANSFER OFFICE; a.k.a. AL-KHALIDY JEWELRY COMPANY; a.k.a. KHALIDI COMPANY; a.k.a. KHALIDI COMPANY FOR JEWELRY), Cankaya Mahallesi, Silifke Cd. Akdeniz, Mersin 33070, Turkey; 7 Ilkbahar Cd, Bursa, Turkey; Raqqah, Syria; Nishtaman building second floor, New Borsa, Irbil, Iraq; Kapali Carsi, Reisoglu Sk., No: 25-27 Beyazit-Fatih, Istanbul, Turkey; Atikali Mahallesi, Fevzi Pasa Cd. 98-100, Fatih, Istanbul 34087, Turkey; Sanliurfa Market Yildiz Field Maidan, Sanliurfa, Turkey; Yildiz field, Sanliurfa, Turkey; Kapali Carsi, Istanbul, Turkey; Aksaray, Istanbul, Turkey; Zeytoun Bourno, Istanbul, Turkey; Iquitli Mimat Akef Street, Istanbul, Turkey; Oak Square, Istanbul, Turkey; Asnioret, Istanbul, Turkey; Independence, Mersin, Turkey; Sarashieh, Anteb, Turkey; Al-Sharshieh, Bursa, Turkey; Al-Sharsheh, Adana, Turkey; Gaziantep, Turkey; Dayr Az Zawr, Syria; Al Mayadin, Syria; Ismet Inonu Buvari 86, Mersin 33050, Turkey; Halaskar Gazi Caddesi 224, Istanbul 34384, Turkey [SDGT] (Linked To: ISLAMIC STATE OF IRAQ AND THE LEVANT).

Additionally, except to the extent otherwise provided by law or unless licensed or otherwise authorized by OFAC, the following are prohibited: (1) Any transaction by a U.S. person or within the United States that evades or avoids, has the purpose of evading or avoiding, or attempts to violate any of the prohibitions set forth in the Order or the Regulations; and (2) any conspiracy formed to violate any of the prohibitions in the Order or the Regulations.

The President determined in section 10 of the Order that, because of the ability to transfer funds or other assets instantaneously, prior notice to persons designated pursuant to the Order, who might have a constitutional presence in the United States, of measures to be taken pursuant to the Order would render these measures ineffectual. Therefore, the President determined that there need be no prior notice of such a determination. Accordingly, in making these determinations pursuant to the Order, I also find that no prior notice should be afforded to the persons named above because to do so would provide an opportunity to evade the measures authorized by the Order and, consequently, render those measures ineffectual.

Andrea Gacki,
Director, Office of Foreign Assets Control, U.S. Department of the Treasury.

[FR Doc. 2019-20003 Filed 9-16-19; 8:45 am]

BILLING CODE P